DEPARTMENT OF COMMERCE

International Trade Administration

[A-570-932]

Certain Steel Threaded Rod From the People's Republic of China: Preliminary Results of the Antidumping Duty Administrative Review; 2013-2014

AGENCY: Enforcement and Compliance, International Trade Administration, Department of Commerce.

SUMMARY: The Department of Commerce (the “Department”) is conducting the fifth administrative review of the antidumping duty order on certain steel threaded rod (“STR”) from the People's Republic of China (“PRC”),¹ for the period of review (“POR”), April 1, 2013, to March 31, 2014. The Department selected two respondents for individual review, Gem-Year Industrial Co., Ltd. (“Gem-Year”), and the RMB/IFI Group.² We preliminary determine that Gem-Year and the RMB/IFI Group failed to cooperate by not acting to the best of their ability to comply with the Department's request for information, warranting the application of facts otherwise available with adverse inferences, pursuant to sections 776(a)-(b) of the Tariff Act of 1930, as amended (“Act”). As a part of the application of adverse facts available (“AFA”), we preliminarily determine to treat Gem-Year and the RMB/IFI Group as part of the PRC-wide entity.³ If these preliminary results are adopted in the final results, the Department will instruct U.S. Customs and Border Protection (“CBP”) to assess antidumping duties on all appropriate entries of subject merchandise during the POR. Interested parties are invited to comment on these preliminary results.

¹ See Certain Steel Threaded Rod from the People's Republic of China: Notice of Antidumping Duty Order, 74 FR 17154 (April 14, 2009) (“Order”).

² RMB Fasteners Ltd., IFI & Morgan Ltd., and Jiaxing Brother Standard Part Co., Ltd. (collectively “the RMB/IFI Group”).

³ See Department Memorandum, “Certain Steel Threaded Rod from the People's Republic of China: Decision Memorandum for the Preliminary Results of the 2013-2014 Antidumping Duty Administrative Review,” (“Preliminary Decision Memorandum”), dated concurrently with these results and hereby adopted by this notice.

DATES: Effective Date: May 7, 2015.

FOR FURTHER INFORMATION CONTACT: Julia Hancock or Jerry Huang, AD/CVD Operations, Office V, Enforcement and Compliance, International Trade Administration, Department of Commerce, 14th Street and Constitution Avenue NW., Washington, DC 20230; telephone: (202) 482-1394 or (202) 482-4047, respectively.

SUPPLEMENTARY INFORMATION:

Background

On May 29, 2014, the Department initiated an administrative review of the antidumping duty order on certain steel threaded rod from the PRC for the period, April 1, 2013, through March 31, 2014, for 92 companies.⁴ On June 18, 2014, Vulcan Threaded Products, Inc. (“Petitioner”) timely withdrew its request for an administrative review of 83 companies.⁵ On September 23, 2014, the Department rescinded this administrative review with respect to 83 companies named in the Initiation Notice based on the timely withdrawal of requests for review,⁶ in accordance with 19 CFR 351.213(d)(1).⁷ Accordingly, nine companies remain under review for these preliminary results.

⁴ See Initiation of Antidumping and Countervailing Duty Administrative Reviews and Request for Revocation in Part, 79 FR 30809 (May 29, 2014) (“Initiation Notice”).

⁵ See Letter to the Department from Petitioner, “Fifth Administrative Review of Certain Steel Threaded Rod from China: Petitioner's Withdrawal of Review Requests for Specific Companies” (June 18, 2014).

⁶ See Certain Steel Threaded Rod from the People's Republic of China: Partial Rescission of Antidumping Duty Administrative Review, 79 FR 56768, (September 23, 2014) (“Partial Rescission Notice”).

⁷ Id.

Scope of the Order

The merchandise covered by the order includes steel threaded rod. The subject merchandise is currently classifiable under subheading 7318.15.5051, 7318.15.5056, 7318.15.5090, and 7318.15.2095 of the United States Harmonized Tariff Schedule (“HTSUS”). Although the HTSUS subheading is provided for convenience and customs purposes, the written description of the merchandise is dispositive.⁸

⁸ For a full description of the scope of the Order, see Preliminary Decision Memorandum.

PRC-Wide Entity

As noted above, a review was requested, but not rescinded, for nine companies. Aside from the mandatory respondents, Gem-Year and RMB/IFI Group, the remaining seven companies are not eligible for separate rate status or rescission because none submitted a completed separate rate application or certification.⁹ Accordingly, these seven companies are part of the PRC-wide entity. Additionally, the Department preliminarily determines that Gem-Year and the RMB/IFI Group, the mandatory respondents, failed to cooperate by not acting to the best of their abilities to comply with requests for information, and therefore, neither is eligible for a separate rate. Accordingly, the Department preliminarily finds, based on AFA, that the PRC-wide entity also includes these two companies.¹⁰

⁹ These companies are: (1) Fastco (Shanghai) Trading Co., Ltd., (2) Haiyan Dayu Fasteners Co., Ltd., (3) Jiaxing Brother Standard Part, (4) Midas Union Co., Ltd., (5) Shanghai P&J International Trading Co., Ltd., (6) New Pole Power System Co. Ltd., and (7) Zhejiang Morgan Brother Technology Co., Ltd.

¹⁰ See section 776(b) of the Act.

The Department's change in policy regarding conditional review of the PRC-wide entity applies to this administrative review.¹¹ Under this policy, the PRC-wide entity will not be under review unless a party specifically requests, or the Department self-initiates, a review of the entity. Because no party requested a review of the PRC-wide entity in this review, the entity is not under review and the entity's rate is not subject to change, (i.e., 206 percent).¹²

¹¹ See Antidumping Proceedings: Announcement of Change in Department Practice for Respondent Selection in Antidumping Duty Proceedings and Conditional Review of the Nonmarket Economy Entity in NME Antidumping Duty Proceedings, 78 FR 65963 (November 4, 2013).

¹² See Certain Steel Threaded Rod From the People's Republic of China: Final Results of Antidumping Duty Administrative Review; 2012-2013, 79 FR 71743, 71744 and accompanying Issues and Decision Memorandum (“4th AR STR Final Results”).

Methodology

The Department conducted this review in accordance with section 751(a)(1)(B) of the Act. For a full description of the methodology underlying our conclusions, see the Preliminary Decision Memorandum.¹³ The Preliminary Decision Memorandum is a public document and is on file electronically via Enforcement and Compliance's Antidumping and Countervailing Duty Centralized Electronic Service System (“ACCESS”). ACCESS is available to registered users at http://access.trade.gov, and is available to all parties in the Central Records Unit, room 7046 of the main Department of Commerce building. In addition, a complete version of the Preliminary Decision Memorandum can be accessed directly on the internet at http://www.trade.gov/enforcement/. The signed Preliminary Decision Memorandum and the electronic versions of the Preliminary Decision Memorandum are identical in content.

¹³ A list of topics discussed in the Preliminary Decision Memorandum is provided at Appendix II to this notice.

Preliminary Results of Review

The Department preliminarily determines that, for the period April 1, 2013, through March 31, 2014, the companies identified in Appendix I to this notice are part of the PRC-wide entity.

Public Comment & Opportunity To Request a Hearing

Interested parties may submit case briefs within 30 days after the date of publication of these preliminary results of review.¹⁴ Rebuttals to case briefs, which must be limited to issues raised in the case briefs, must be filed within five days after the time limit for filing case briefs.¹⁵ Parties who submit arguments are requested to submit with the argument (a) a statement of the issue, (b) a brief summary of the argument, and (c) a table of authorities.¹⁶ Parties submitting briefs should do so pursuant to the Department's electronic filing system, ACCESS.

¹⁴ See 19 CFR 351.309(c)(1)(ii).

¹⁵ See 19 CFR 351.309(d)(1)-(2).

¹⁶ See 19 CFR 351.309(c)(2), (d)(2).

Any interested party may request a hearing within 30 days of publication of this notice.¹⁷ Hearing requests should contain the following information: (1) The party's name, address, and telephone number; (2) the number of participants; and (3) a list of the issues to be discussed. Oral presentations will be limited to issues raised in the briefs.¹⁸ If a request for a hearing is made, parties will be notified of the time and date for the hearing to be held at the U.S. Department of Commerce, 14th Street and Constitution Avenue NW., Washington, DC 20230.¹⁹

¹⁷ See 19 CFR 351.310(c).

¹⁸ Id.

¹⁹ See 19 CFR 351.310(d).

The Department intends to issue the final results of this administrative review, which will include the results of our analysis of all issues raised in the case briefs, within 120 days of publication of these preliminary results in the Federal Register, unless extended, pursuant to section 751(a)(3)(A) of the Act.

Assessment Rates

Upon issuance of the final results, the Department will determine, and CBP shall assess, antidumping duties on all appropriate entries covered by this review.²⁰ The Department intends to issue assessment instructions to CBP 15 days after the publication date of the final results of this review.

²⁰ See 19 CFR 351.212(b).

For any individually examined respondent whose weighted average dumping margin is above de minimis (i.e., 0.50 percent) in the final results, the Department will calculate importer-specific assessment rates on the basis of the ratio of the total amount of dumping calculated for the importer's examined sales to the total entered value of sales, in accordance with 19 CFR 351.212(b)(1). Where an importer- (or customer-) specific ad valorem rate is greater than de minimis, the Department will instruct CBP to collect the appropriate duties at the time of liquidation.²¹ Where either a respondent's weighted average dumping margin is zero or de minimis, or an importer- (or customer-) specific ad valorem rate is zero or de minimis, the Department will instruct CBP to liquidate appropriate entries without regard to antidumping duties.²² We intend to instruct CBP to liquidate entries containing subject merchandise exported by the PRC-wide entity at the PRC-wide rate.

²¹ See 19 CFR 351.212(b)(1).

²² See 19 CFR 351.106(c)(2).

The Department announced a refinement to its assessment practice in non-market economy (“NME”) cases.²³ Pursuant to this refinement in practice, for entries that were not reported in the U.S. sales databases submitted by companies individually examined during the administrative review, the Department will instruct CBP to liquidate such entries at the PRC-wide rate. Additionally, if the Department determines that an exporter had no shipments of the subject merchandise, any suspended entries that entered under that exporter's case number (i.e., at that exporter's rate) will be liquidated at the PRC-wide rate.²⁴

²³ For a full discussion of this practice, see Non-Market Economy Antidumping Proceedings: Assessment of Antidumping Duties, 76 FR 65694 (October 24, 2011).

²⁴ Id.

In accordance with section 751(a)(2)(C) of the Act, the final results of this review shall be the basis for the assessment of antidumping duties on entries of merchandise covered by the final results of this review and for future deposits of estimated duties, where applicable.

Cash Deposit Requirements

The following cash deposit requirements will be effective upon publication of the final results of this review for shipments of the subject merchandise from the PRC entered, or withdrawn from warehouse, for consumption on or after the publication date, as provided by sections 751(a)(2)(C) of the Act: (1) For any companies listed that have a separate rate, the cash deposit rate will be that established in the final results of this review (except, if the rate is zero or de minimis, then zero cash deposit will be required); (2) for previously investigated or reviewed PRC and non-PRC exporters not listed that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter.

These deposit requirements, when imposed, shall remain in effect until further notice.

Notification to Importers

This notice also serves as a preliminary reminder to importers of their responsibility under 19 CFR 351.402(f)(2) to file a certificate regarding the reimbursement of antidumping duties prior to liquidation of the relevant entries during the POR. Failure to comply with this requirement could result in the Department's presumption that reimbursement of antidumping duties occurred and the subsequent assessment of double antidumping duties.

These preliminary results are issued and published in accordance with sections 751(a)(1) and 777(i)(1) of the Act and 19 CFR 351.221(b)(4).

Dated: April 30, 2015.
Paul Piquado,
Assistant Secretary for Enforcement and Compliance.

Appendix I—Companies Subject to the Administrative Review That Are Preliminarily Determined To Be Part of the PRC-Wide Entity

Fastco (Shanghai) Trading Co., Ltd.

Gem-Year Industrial Co., Ltd.

Haiyan Dayu Fasteners Co., Ltd.

Jiaxing Brother Standard Part Co., Ltd., IFI & Morgan Ltd. and RMB Fasteners Ltd. (collectively “RMB/IFI Group”)

Jiaxing Brother Standard Part.

Midas Union Co., Ltd.

New Pole Power System Co. Ltd.

Shanghai P&J International Trading Co., Ltd.

Zhejiang Morgan Brother Technology Co. Ltd.

Appendix II—List of Topics Discussed in the Preliminary Decision Memorandum:

Summary

1. Background

2. Verification

3. Respondent Selection

4. Scope of the Order

5. Questionnaires

6. Non-Market Economy Country

7. PRC-Wide Entity

8. Separate Rates

9. Application of Facts Available and Use of Adverse Inference

10. Conclusion

[FR Doc. 2015-11082 Filed 5-6-15; 8:45 am]

BILLING CODE 3510-DS-P